DEPARTMENT OF THE INTERIOR

Fish and Wildlife Service

[FWS-R2-R-2015-N042; FXRS12610200000-156-FF02R06000]

Brazoria National Wildlife Refuge, Brazoria County, TX; Notice of Intent To Prepare an Environmental Assessment or an Environmental Impact Statement on a Proposed Right-of-Way Permit Application for Pipelines Crossing the Refuge

AGENCY: Fish and Wildlife Service, Interior.

ACTION: Notice of intent; request for comments.

SUMMARY: We, the U.S. Fish and Wildlife Service (Service), are in the process of considering an application from Praxair, Inc. (Praxair) for a right-of-way (ROW) permit to construct, operate, and maintain two pipelines within an existing maintained pipeline corridor crossing the Brazoria National Wildlife Refuge (NWR) in Brazoria County, Texas. The Service requests comments on environmental issues and announces the opening of the scoping process, which will inform the decision to prepare either an environmental assessment (EA) or environmental impact statement (EIS) pursuant to the National Environmental Policy Act (NEPA) of 1969, as amended. This notice provides an opportunity for input from other Federal and State agencies, local government, Native American Tribes, nongovernmental organizations, the public, and other interested parties on the scope of the NEPA analysis, pertinent issues which should be addressed, and the alternatives to be analyzed.

DATES: To ensure consideration of written comments on the issues and possible alternatives to be addressed in the documents, they must be received no later than July 16, 2015.

ADDRESSES: Comments, questions, and requests for further information may be submitted by U.S. mail to Project Leader, Texas Mid-coast NWR Complex, U.S. Fish and Wildlife Service, 2547 County Road 316, Brazoria, TX 77422; by email at jennifer_sanchez@fws.gov; by phone at (979) 964-4011; or by fax to (979) 964-4021.

SUPPLEMENTARY INFORMATION: We are in the process of considering an application from Praxair, Inc. (Praxair) for a right-of-way (ROW) permit to construct, operate, and maintain a 24-inch carbon steel pipeline for transport of nitrogen, and a 14-inch carbon steel pipeline for transport of hydrogen, within an existing maintained 4.25-mile pipeline corridor crossing the Brazoria National Wildlife Refuge (NWR) in Brazoria County, Texas. We request comments on environmental issues and announce the opening of the scoping process, which will inform our decision to prepare either an environmental assessment (EA) or environmental impact statement (EIS) pursuant to the National Environmental Policy Act (NEPA) of 1969, as amended, in conjunction with preparation of a plan of operations for the proposed new pipelines. The decision to initially prepare an EA or EIS will be, in part, contingent on the complexity of issues identified during, and following, the scoping phase of the NEPA process.

This notice provides an opportunity for input from other Federal and State agencies, local government, Native American Tribes, nongovernmental organizations, the public, and other interested parties on the scope of the NEPA analysis, pertinent issues which should be addressed, and the alternatives to be analyzed. The NEPA document will include an analysis of environmental consequences of the proposed action and alternatives, including direct and indirect impacts, as well as an assessment of the overall cumulative effects resulting from the incremental impact of the proposed action when added to other past, present, and reasonably foreseeable future actions. The NEPA document will also include proposed measures for avoiding or minimizing adverse impacts to refuge resources during construction and operations, as well as a proposal for compensatory mitigation for replacement of lost habitat values through land conservation and protection as part of the NWR. We will use this NEPA document in our decision-making process to determine whether the proposed new pipelines are an appropriate and compatible use of lands in the National Wildlife Refuge System (NWRS), as well as whether processing of the application for a Pipeline ROW Permit should proceed to the next step. The public will also have a chance to review and comment on the draft EA or EIS when it is available (a notice of availability will be published in the Federal Register).

Proposed Project

Praxair proposes to use a combination of conventional, open trenching, and subsurface Horizontal Directional Drilling (HDD) in its construction methods to cross the Refuge lands. The proposed two pipelines would be constructed at the same time, near the center of an existing maintained 4.25-mile pipeline corridor and between existing pipelines. The existing pipeline corridor pre-dates Fish and Wildlife Service (FWS) ownership of the land in fee title, and extends from Farm-to-Market Road 2004 on the northeast end to Austin Bayou on the southwest end. Construction of the proposed pipelines would require a 100-foot-wide temporary right-of-way, including 70 feet of temporary workspace used during construction activities, and a 30-foot-wide right-of-way after construction is complete. Praxair is working with Service staff in the development of its proposed plan of operations in order to determine construction methods and develop measures to avoid or minimize potential adverse impacts during construction activities. However, some impacts are unavoidable and can reasonably be anticipated during pipeline construction, operations, and maintenance activities. Conventional trenching for simultaneous construction of the proposed two pipelines would require excavation of an open trench approximately 5.5 to 6 feet deep, 8 feet wide at the bottom, and 19 feet wide at the surface, with an approximately 45-degree slope on the sides, depending on soil conditions. Workspace required for HDD sites would be 300 feet by 300 feet.

Other past, present, and reasonably foreseeable future actions occurring on the Brazoria NWR that could contribute to cumulative impacts include: (1) Construction of a 12-inch propane pipeline within the same corridor, completed in May 2014; (2) construction of a 12-inch ethane pipeline within the same corridor, tentatively scheduled to begin May 2015; (3) a 3-D seismic survey which will encompass the entire refuge, tentatively scheduled to begin second or third quarter of 2016. These actions have been previously approved and permitted.

Refuge Background

The Refuge System is the only system of federally owned lands managed chiefly for the conservation of wildlife. Most national wildlife refuges are strategically located along major bird migration corridors, ensuring that ducks, geese, and songbirds have rest stops on their annual migrations. The Refuge System is the world's largest collection of lands and waters set aside specifically for the conservation of wildlife and ecosystem protection.

The mission of the Refuge System is “to administer a national network of lands and waters for the conservation, management and, where appropriate, restoration of the fish, wildlife, and plant resources and their habitats within the United States for the benefit of present and future generations of Americans” (National Wildlife Refuge System Improvement Act of 1997, Pub. L. 105-57).

The Brazoria NWR encompasses approximately 44,500 acres and includes the largest contiguous salt marsh and coastal prairie habitats and managed fresh water wetlands on the Texas Mid-coast NWR Complex (Complex). The Complex is comprised of three refuges: Brazoria NWR, San Bernard NWR, and Big Boggy NWR, which consist of a vital complex of salt and freshwater marshes, sloughs, ponds, coastal prairies, and bottomland hardwood forests that provide habitat for a wide variety of resident and migratory wildlife.

The goals established for the Complex include the following:

• To contribute to conservation efforts and to foster the ecological integrity of the Gulf Coast Prairies and Marshes Ecoregion through proven and innovative management practices across the Complex.

• To conserve, restore, enhance, and protect Complex habitats by implementing appropriate management programs to benefit native flora and fauna, including threatened and endangered species and other species of concern.

• To protect, maintain, and enhance populations of migratory birds and resident fish and wildlife, including Federal and State threatened and endangered species.

• To develop and implement quality wildlife-dependent recreation programs that are compatible with each refuge's purposes and foster enjoyment and understanding of the Complex's unique wildlife and plant communities.

• To provide administrative and public use facilities needed to carry out each refuge's purposes and meet management objectives.

Public Involvement

The public's ideas and comments are an important part of the planning process, and we invite public participation. We encourage the public to provide comments, which will help us determine the issues and formulate alternatives. We will be accepting comments via U.S. mail, email, and telephone during the open comment period (see DATES and ADDRESSES), as well as through personal contacts throughout the planning process. However, written comments are preferred.

Public Availability of Comments

Before including your address, phone number, email address, or other personal identifying information in your comment, you should be aware that your entire comment—including your personal identifying information—may be made publicly available at any time. While you can ask us in your comment to withhold your personal identifying information from public review, we cannot guarantee that we will be able to do so.

Authorities

NEPA (42 U.S.C. 4321 et seq.) and its implementing regulations; and the National Wildlife Refuge System Administration Act of 1966 (Refuge Administration Act), as amended by the National Wildlife Refuge System Improvement Act of 1997 (Refuge Improvement Act).

Dated: June 5, 2015.
Joy Nicholopoulos,
Acting Regional Director, Southwest Region, U.S. Fish and Wildlife Service.

[FR Doc. 2015-14714 Filed 6-15-15; 8:45 am]

BILLING CODE 4310-55-P